DEPARTMENT OF HEALTH AND HUMAN SERVICES

Centers for Disease Control and Prevention

[60 Day-06-06BD]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Economic Analysis of the National Breast and Cervical Cancer Early Detection Program—New—National Center for Chronic Disease Prevention and Health Promotion (NCCDPHP), Centers for Disease Control and Prevention (CDC).

Background and Brief Description

CDC administers the National Breast and Cervical Cancer Early Detection Program (NBCCEDP) which provides critical breast and cervical cancer screening services to underserved women in the United States, the District of Columbia, 4 U.S. territories, and 13 American Indian/Alaska Native organizations. The program provides breast and cervical cancer screening for eligible women who participate in the program as well as diagnostic procedures for women who have abnormal findings. For the past decade, the NBCCEDP has provided over 5 million breast and cervical cancer screening and diagnostic exams to almost 2.1 million low-income women. Women diagnosed with cancer through the program are eligible for Medicaid coverage through the Breast and Cervical Cancer Prevention and Treatment Act passed by Congress in 2000.

The NBCCEDP is the largest organized cancer screening program in the United States but to date there has been no systematic analysis of the economic costs incurred by the program. CDC is proposing to collect one year of cost data, (period covering 07/01/2005—06/30/2006), from all the 68 NBCCEDP grantees to assess the cost and cost-effectiveness of the program. The information required to perform an activity-based cost analysis includes: staff and consultant salaries, screening costs, contracts and material costs, provider payments, in-kind contributions, administrative costs, allocation of funds and staff time devoted to specific program activities. CDC has developed and tested a draft questionnaire with 9 NBCCEDP grantees to assess the ability of the grantees to provide the cost data elements requested, identify the cost information required, and to complete the questionnaire within the allocated timeframe.

The cost data provided by the 68 grantees will be used to evaluate the programs to ensure the most appropriate use of limited program resources. Performing an assessment of the resources expended on NBCCEDP will provide valuable information to the CDC and its' partners for improving program efficiency within the various components of the NBCCEDP including screening, case management, outreach, and overall management. The cost data will allow CDC to assess the costs of the various program components, identify factors that impact average cost, perform cost-effectiveness analysis and develop a resource allocation tool. The collection and analysis of the cost data will allow CDC to utilize a more systematic process to allocate program resources based on grantees' past performance, level of efficiency, and future needs.

Since information on screening and diagnosis volumes (the effectiveness measures) are already collected as part of the Minimum Data Elements (MDEs), OMB# 0920-0571 Exp. Date 05/31/2006, the additional burden on grantees to provide the requested cost data will be modest. If future cost data collection efforts are undertaken, the response burden would be further reduced because the infrastructure established to capture the data is already in place.

There are no costs to respondents except their time to participate in the survey. All respondents will be using the same cost assessment tool.

Estimated Annualized Burden Table
Respondent | Number of respondents | Number responses per respondent | Average burden per response (in hours) | Total burden hours
Program Director | 68 | 1 | 4 | 272
Business Manager | 68 | 1 | 4 | 272
Data Manager | 68 | 1 | 14 | 952
Total |  |  |  | 1,496

Dated: March 31, 2006.
Joan F. Karr,
Acting Reports Clearance Officer, Centers for Disease Control and Prevention.

[FR Doc. E6-5038 Filed 4-5-06; 8:45 am]

BILLING CODE 4163-18-P